NUCLEAR REGULATORY COMMISSION

Notice of Location Change for Public Meeting for Fuel Cycle Facilities

AGENCY: Nuclear Regulatory Commission.

ACTION: Public meeting notice.

FOR FURTHER INFORMATION CONTACT: James Smith, Project Manager, Technical Support Section, Division of Fuel Cycle Safety and Safeguards, Office of Nuclear Material Safety and Safeguards, U.S. Nuclear Regulatory Commission, Washington, DC 20005, Telephone: (301) 415-6459; fax number: (301) 415-5370; e-mail: jas4@nrc.gov.

SUPPLEMENTARY INFORMATION:

I. Introduction

The Nuclear Regulatory Commission (NRC) is hosting a workshop to discuss issues of interest pertaining to the regulation of NRC-regulated fuel cycle facilities. The purpose of the workshop is to discuss various issues of the regulatory program related to the update of 10 CFR part 70. The specific issues to be discussed are 10 CFR part 70, Appendix A reportability of incidents, digital control systems, enforcement policy revisions, uranium solubility issues.

The workshop was originally noticed to be held at the NRC's Executive Boulevard Building; however, due to availability issues, the workshop will now be held in Rockville at The Universities of Shady Grove (USG) Conference Center. The meeting is open to the public. We are expecting that NRC staff, licensees and certificate holders, and other interested parties and stakeholders will be making presentations on these issues of interest, with opportunity for followup discussion on each subject.

II. Dates and Location

Date: June 14, 2007. 9 a.m.-5:30 p.m.

The Universities of Shady Grove (USG), Conference Center Multipurpose Room, 9630 Gudelsky Drive, Rockville, MD 20850, for directions http://www.shadygrove.umd.edu/about/directions/.

III. Contact

James Smith, Project Manager, Office of Nuclear Material Safety and Safeguards, Division of Fuel Cycle Safety and Safeguards, Special Projects Branch, Mail Stop: T8F42, 301-415-6459, Fax: 301-415-5370, e-mail: jas4@nrc.gov.

IV. Further Information

The document related to this action is available electronically at the NRC's Electronic Reading Room at http://www.nrc.gov/reading-rm/adams.html. From this site, you can access the NRC's Agencywide Documents Access and Management System (ADAMS), which provides text and image files of NRC's public documents. The ADAMS ascension number for the document related to this notice is provided in the following table. If you do not have access to ADAMS or if there are problems in accessing the document located in ADAMS, contact the NRC Public Document Room (PDR) Reference staff at 1-800-397-4209, 301-415-4737, or by e-mail to pdr@nrc.gov.

Dated at Rockville, Maryland, this 7th day of June 2007.
For the Nuclear Regulatory Commission.
James Smith,
Acting Chief, Technical Support Branch, Special Projects and Technical Support Directorate, Division of Fuel Cycle Safety and Safeguards, Office of Nuclear Material Safety and Safeguards.

[FR Doc. E7-11510 Filed 6-13-07; 8:45 am]

BILLING CODE 7590-01-P